DEPARTMENT OF HEALTH AND HUMAN SERVICES

National Institutes of Health

National Cancer Institute; Cancellation of Meeting

Notice is hereby given of the cancellation of the National Cancer Institute Board of Scientific Advisors, March 30, 2020, 8:00 a.m. to March 30, 2020, 6:05 p.m., National Cancer Institute Shady Grove, Shady Grove, 9609 Medical Center Drive, Rockville, MD 20850 which was published in the Federal Register on March 9, 2020, 85 FR 13666. This meeting is being postponed in the best interest of the health and safety of employees, contractors, and all board/committee members. The meeting will be rescheduled in either late April or early May.

Dated: March 17, 2020.
Melanie J. Pantoja,
Program Analyst, Office of Federal Advisory Committee Policy.

[FR Doc. 2020-05969 Filed 3-20-20; 8:45 am]

BILLING CODE 4140-01-P